DEPARTMENT OF HEALTH AND HUMAN SERVICES

Centers for Disease Control and Prevention

[Program Announcement 01153]

Expansion of Prevention, Care and HIV/AIDS Surveillance With the Ministry of Public Health, Kingdom of Thailand; Notice of Availability of Funds

A. Purpose

The Centers for Disease Control and Prevention (CDC) announces the availability of fiscal year (FY) 2001 funds for a cooperative agreement program with the Kingdom of Thailand, Ministry of Public Health (MOPH) for the improvement and expansion of prevention activities, care and surveillance, and targeting HIV/AIDS and HIV/AIDS-related conditions in Thailand.

The purpose of this cooperative agreement is to improve and expand in Thailand: (1) HIV transmission prevention capacity (e.g., MTCT, heterosexual, homosexual, and blood-borne), (2) care and support services for persons living with HIV/AIDS (e.g., psychosocial support, enhancing opportunistic infection prevention and treatment, and monitoring use of antiretroviral drugs), and (3) surveillance efforts, including laboratory-based surveillance activities (e.g., STDs, TB and other opportunistic infections, and drug-resistant HIV strains), which will be accomplished through cooperation between CDC and the Thai MOPH.

The U.S. Government seeks to reduce the impact of HIV/AIDS and related conditions in specific countries within sub-Saharan Africa, Asia, and the Americas through its Leadership and Investment in Fighting an Epidemic (LIFE) initiative. Through this program, CDC has initiated its Global AIDS Program (GAP) to strengthen capacity and expand activities in the areas of (1) HIV primary prevention; (2) HIV care, support, and treatment; and (3) capacity and infrastructure development, especially for surveillance. Targeted countries represent those with the most severe epidemics and the highest number of new infections. They also represent countries where the potential for impact is greatest and where U.S. Government agencies are already active. Thailand is one of these targeted countries.

To carry out its activities in these countries, CDC is working in a collaborative manner with national governments and other agencies to develop programs of assistance to address the HIV/AIDS epidemic. CDC's program of technical assistance to Thailand focuses on several areas including strengthening surveillance and laboratory measures, scaling up promising prevention and care strategies, supporting behavior change communication projects, promoting technology transfer, and other capacity building efforts.

Thailand is experiencing one of Asia's most severe AIDS crises. As of the end of 1999, it was estimated that approximately 755,000 adults and children were living with HIV/AIDS in Thailand. In 1999, nearly 66,000 adults and children died of AIDS. Since the beginning of the epidemic, 75,000 children have been orphaned as a result of AIDS. Cumulative reported AIDS cases through 2000 (n = 160,350) demonstrate that sexual transmission accounts for the majority of cases (83 percent). Vertical transmission (mother to child) and transmission through injecting drug use each account for about five percent. In seven percent of AIDS cases, information about transmission is incomplete or unknown. The rising number of symptomatic HIV patients is posing an increasing burden for hospitals in Thailand-especially in the northern part of the country.

Internationally, Thailand is considered a model in the developing world for the implementation of timely and effective HIV/AIDS policies and programs. Thailand's National AIDS Program began in 1987, and was strongly endorsed by the Prime Minister, who chaired the National AIDS Committee to coordinate Program efforts. Three key accomplishments of the Program are noted here: (1) In 1990-91, in response to rising HIV prevalence among brothel-based CSWs (from three percent in 1989 to 15 percent in 1991) and male military conscripts (five-tenths percent in 1989 to three percent in 1991), the Thai government launched a multi-sectoral nationwide campaign to reduce HIV transmission. Key elements of the plan included expanded sexually transmitted diseases (STD) treatment, a mass media information campaign and a program to promote universal and consistent condom use in commercial sex “100 percent Condom Programme”. As a result of these efforts, utilization of commercial sex declined, condom use in commercial sex increased, STD cases dropped, and the prevalence of HIV among army conscripts decreased by more than half. The World Bank estimates that since 1993, behavior change and condom use have prevented an estimated 200,000 new HIV infections in Thailand. (2) Since the early 1990's, voluntary counseling and testing (VCT) for all pregnant women has been progressively implemented throughout Thailand. To reduce maternal to child transmission (MTCT) of HIV, Thailand began in year 2000 a national program to provide HIV infected pregnant women a short regimen of AZT before and during delivery, AZT syrup for the child, and a one-year supply of infant formula. Initial results from earlier pilot programs demonstrated a reduction in vertical transmission rates from 30 percent to seven to eight percent. (3) Another major Thai accomplishment has been in ensuring the safety of the blood supply. The estimated rate of HIV transmission through blood products in Thailand is 1 in 80,000 transfusions—one of the lowest rates in any developing country. The Ministry of Public Health made HIV screening of all blood units mandatory in 1989 and has, through screening, discouraged high risk donors from donating.

However, despite these and others interventions, the World Bank estimates that 29,000 people in Thailand were newly infected with HIV in the year 2000 (25,000 adults and 4,000 children). Roughly half of the new adult infections occurred among women infected by their husbands, or sex partners, one-quarter were found among injection drug users (IDUs), about twenty percent were among sex workers and their clients, and five percent among other groups. Without appropriate intervention, it is estimated that the proportion of HIV infections related to injection drug use, either directly (e.g., sharing injection equipment between IDUs) or indirectly (i.e., sex partner of an IDU), will rise to some 40 percent of all new infections by 2005.

The Thai MOPH has a well-functioning, national HIV sero-surveillance system. Groups tested include blood donors, antenatal clinic attendees, IDUs, male STD clinic patients, and female sex workers in brothels “direct” sex workers as well as those in massage parlors and other places “indirect” sex workers. Surveillance needs to be strengthened to include behavioral surveillance among special populations such as IDUs and indirect sex workers engaging clients in new venues, and expanded, especially among youth, to include sexually active adolescents who are still attending school, and who are out of school. In addition, monitoring and evaluation activities to assess the impact of care and support programs for persons living with HIV/AIDS is urgently needed. Such activities should include enhanced surveillance for tuberculosis (TB) and other opportunistic infections, and monitoring the increasing use of antiretroviral drugs and the likely emergence of drug resistant HIV strains.

These collaborative activities could profoundly impact the scope and intensity of the implementation the National AIDS Policy. Cooperative efforts could lead to significant improvements in the collection of critical data to support future action, a better understanding of the association between specific behaviors and HIV prevalence, improved and more responsive systems of care, and strengthened aspects of the public health infrastructure. Since 1990, CDC has had a strong collaboration with the Thai MOPH to conduct research and related activities on HIV infection and AIDS in Thailand in order to improve understanding of the disease and provide a scientific basis for the development of public health actions. The collaboration seeks to broaden its mission to include the LIFE Initiative activities outlined in this program.

B. Eligible Applicants

Assistance will be provided only to the MOPH, Kingdom of Thailand. No other applications are solicited.

The MOPH is the only appropriate and qualified organization to fulfill the requirements set forth in this announcement for the following reasons:

1. The MOPH is directly responsible for the implementation, monitoring and evaluation of population-based HIV/AIDS prevention and care policies and services.

2. The MOPH is uniquely positioned-in terms of constitutional authority, mandate and ability-to oversee and safeguard public health, and to collect and analyze information and disseminate surveillance and health system performance reports related to the prevalence and incidence of HIV/AIDS, HIV/AIDS-related conditions and other health issues.

3. The MOPH has in place the central, provincial and district-based structures required to immediately engage in the activities listed in this announcement.

C. Availability of Funds

Approximately $1,500,000 is available in FY 2001 to fund this agreement. It is expected that the awards will begin on or about September 30, 2001 and will be made for a 12-month budget period within a project period of five years. Annual funding estimates may change.

Continuation awards within the approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

No funds appropriated under this Act shall be used to carry out any program of distributing sterile needles or syringes for the hypodermic injection of any illegal drug.

Use of Funds

Funds received from this announcement may not be used for the direct purchase of antiretroviral drugs for treatment of established HIV infection (with the exception of nevirapin in PMTCT cases and with prior written approval), occupational exposures, and non-occupational exposures and will not be used for the purchase of machines and reagents to conduct the necessary laboratory monitoring for patient care.

Applicants may contract with other organizations under these cooperative agreements, however, applicants must perform a substantial portion of the activities (including program management and operations) and delivery of prevention services for which funds are requested.

The costs that are generally allowable in grants to domestic organizations are likewise allowable to foreign institutions and international organizations, with the following exceptions:

1. Alterations and Renovations: Unallowable.

2. Customs and Import Duties: Unallowable. This includes consular fees, customs surtax, value added taxes, and other related charges.

3. Indirect Costs: With the exception of the American University, Beirut, the Gorgas Memorial Institute, and the World Health Organization, indirect costs will not be paid (either directly or through a sub-award) to organizations located outside the territorial limits of the United States or to international organizations regardless of their location.

D. Program Requirements

In conducting activities to achieve the purpose of this program, the recipient will be responsible for the activities under 1. (Recipient Activities), and CDC will be responsible for the activities listed under 2. (CDC Activities).

1. Recipient Activities

a. Expand HIV/AIDS Prevention Programs

Support the national program to prevent mother-to-child HIV transmission through national monitoring and evaluation of the program and training health care workers implementing it; develop and implement pilot projects to improve the program by integrating into the program enhanced HIV prevention activities during pregnancy and systematic HIV-related care for HIV-infected pregnant women and their families.

b. Expand HIV/AIDS Care and Support Programs

(1) Collaborate in the development of national strategies for increasing the quality of community and home-based care of persons with HIV/AIDS and related conditions, and implement pilot projects in increased quality of HIV/AIDS care at district and provincial levels.

(2) Expand the development of stronger linkages between TB and HIV/AIDS prevention and care programs.

(3) Enhance access to TB preventive therapy and other opportunistic infection primary and secondary prophylaxis regimens and monitor their impact.

(4) Assist in monitoring and evaluating novel and appropriate uses of antiretroviral agents.

c. Strengthen HIV/AIDS and HIV/AIDS-Related Surveillance

(1) Expand and improve national HIV/AIDS/STD/TB surveillance programs with a focus on improved systems for case reporting, monitoring and evaluation, and measures to determine incidence, prevalence, and behavioral risk factors.

(2) Produce and disseminate an MOPH annual HIV/AIDS surveillance report containing data accruing from the HIV/AIDS-related surveillance systems (e.g., surveillance for TB, and other opportunistic infections), operational research, and special studies; expand the report to include data generated from other sources (e.g., non-MOPH), where appropriate; expand presentation and discussion of surveillance data, particularly at the local level to improve programs; and increase distribution of the report.

(3) In collaboration with CDC and other partner agencies, present project findings to other researchers and policy makers at local and international meetings and conferences.

d. Strengthen of Public Health Laboratory Services Supporting Surveillance, Prevention and Care Activities

(1) In collaboration with CDC and other relevant agencies, finalize the establishment of a National Microbiology Reference Laboratory (NMRL) system supportive of surveillance, training, research, reference-level testing services and quality assurance activities.

(2) Expand introduction of the use of rapid HIV tests through development of national guidelines, point of service protocols and quality assurance programs appropriate for national, provincial and district levels.

(3) Improve management of public health laboratory functions through development of information management systems and improved telecommunication infrastructure.

e. Strengthen of the Public Health Infrastructure

Improve MOPH planning for and infrastructure supporting the collection, management, analysis and distribution of health information related to HIV/AIDS and related conditions.

2. CDC Activities

a. Collaborate with MOPH on designing and implementing the activities listed above, including but not limited to the provision of technical assistance to develop and implement program activities, laboratory services, quality assurance, data management, statistical analysis, and presentation of program methods and findings.

b. Collaborate with MOPH and other relevant partners and agencies in the development of special laboratory-based surveillance activities.

c. Monitor project and budget performance.

E. Application Content

Please use the information in the Program Requirements, Other Requirements, and Evaluation Criteria sections of this document to develop your application content. Your application will be evaluated on the criteria listed, so it is important to follow them in laying out your program plan. The narrative should be no more than 25 double-spaced pages, printed on one side, with one-inch margins, and with unreduced font. Pages should be numbered, and a complete index to the application and any appendices must be included.

F. Submission and Deadline

Submit the original and two copies of PHS 5161-1 (OMB Number 0937-0189). Forms are available in the application kit and at the following Internet address: www.cdc.gov/od/pgo/forminfo.htm

On or before August 15, 2001, in both electronic (Microsoft Word and Excel format) and hard copy, submit the application to the Grants Management Specialist identified in the “Where to Obtain Additional Information” section of this announcement.

G. Evaluation Criteria

Your application will be evaluated against the following criteria by an independent review group appointed by CDC.

1. Understanding of the Problem (10 Points)

Extent to which the applicant demonstrates a clear and concise understanding of the nature of the problem described in the Purpose section of this announcement. This specifically includes description of the public health importance of the planned activities to be undertaken and realistic presentation of proposed objectives and projects.

2. Technical Approach (30 Points)

The extent to which the applicant's proposal includes an overall design strategy, including measurable time lines, the extent to which the proposal addresses regular monitoring and evaluation, and the potential effectiveness of the proposed activities in meeting objectives.

3. Ability to Carry Out the Project (25 Points)

The extent to which the applicant documents demonstrated capability to achieve the purpose of the project.

4. Personnel (20 Points)

The extent to which professional personnel involved in this project are qualified, including evidence of experience in working with HIV/AIDS, opportunistic infections, and HIV/STD surveillance.

5. Plans for Administration and Management of Projects (15 Points)

Adequacy of plans for administering the projects.

6. Budget (Not Scored)

The extent to which itemized budget for conducting the project, along with justification, is reasonable and consistent with stated objectives and planned program activities.

7. Protection of Human Subjects (Not Scored)

The extent to which the application adequately addresses the requirements of 45 CFR 46 for the protection of human subjects.

H. Other Requirements

Technical Reporting Requirements

Provide CDC with original plus two copies of:

1. Written quarterly progress reports;

2. Financial status report, no more than 45 days after the end of the budget period; and

3. Final financial and performance reports, no more than 90 days after the end of the project period.

4. Annual audit of these CDC funds (program-specific audit) by a U.S.-based audit firm with international branches and current licensure/authority in-country, and in accordance with International Accounting Standards or equivalent standard(s) approved in writing by CDC.

Send all reports to the program contact and the Grants Management Specialist, both identified in the “Where to Obtain Additional Information” section of this announcement.

The following additional requirements are applicable to this program. For a complete description of each, see Attachment I of the announcement. Some of the more complex requirements have some additional information provided below.

AR-1—Human Subjects Requirements

AR-6—Patient Care

AR-14—Accounting System Requirements

AR-22—Research Integrity

I. Authority and Catalog of Federal Domestic Assistance Number

This program is authorized under section 307 of the Public Health Service Act, [42 U.S.C. section 242I], as amended. The Catalog of Federal Domestic Assistance number is 93.941.

J. Where To Obtain Additional Information

This and other CDC announcements can be found on the CDC home page Internet address—http://www.cdc.gov. Click on “Funding” then “Grants and Cooperative Agreements.”

If you have questions after reviewing the contents of all the documents, business management technical assistance may be obtained from: Dorimar Rosado, Grants Management Specialist, Grants Management Branch, Procurement and Grants Office, Centers for Disease Control and Prevention, 2920 Brandywine Road, Room 3000, MS-15, Atlanta, GA 30341-4146, Telephone: (770) 488-2782, Fax: (770) 488-2847, e-mail: dpr7@cdc.gov.

For program technical assistance, contact: Jordan W. Tappero, MD, MPH, Director, Thailand-CDC Collaboration, Director, The HIV/AIDS Program, DMS 6 Building, Ministry of Public Health, Tivanon Road, Nonthaburi 11000, THAILAND, Tel: (66 2) 591 8358, Fax: (66 2) 591 5443, Mobile: (66 1) 755 9011, e-mail: jwt0@cdc.gov.

Dated: July 10, 2001.
John L. Williams,
Director, Procurement and Grants Office, Centers for Disease Control and Prevention.

[FR Doc. 01-17658 Filed 7-13-01; 8:45 am]

BILLING CODE 4163-18-P